DEPARTMENT OF DEFENSE

Office of the Secretary

32 CFR Part 3

Transactions Other Than Contracts, Grants, or Cooperative Agreements for Prototype Projects

AGENCY: Office of the Secretary, Department of Defense (DoD).

ACTION: Proposed rule; public meeting.

SUMMARY: The Director of Defense Procurement is sponsoring a public meeting to discuss the proposed rule on conditions for appropriate use and audit policy for transactions for prototype projects published in the Federal Register at 66 FR 58422 on November 21, 2001.

DATES: The meeting will be held on March 27, 2002 from 9 a.m. to 5 p.m.

ADDRESSES: The meeting will be held at the National Contract Management Association (NCMA), which is located at 1912 Woodford Road, Vienna, Virginia 22182. Directions to NCMA are available at http://www.acq.osd.mil/dp/dsps/ot/pr.htm.

FOR FURTHER INFORMATION CONTACT: David Capitano, Office of Cost, Pricing, and Finance, by telephone at 703-602-4245, by FAX at 703-602-0350, or by e-mail at david.capitano@osd.mil.

SUPPLEMENTARY INFORMATION: The Director of Defense Procurement would like to hear the views of interested parties on what they believe to be the key issues pertaining to the proposed rule on Transactions Other Than Contracts, Grants, or Cooperative Agreements for Prototype Projects published in the Federal Register at 66 FR 58422 on November 21, 2001. A listing of some of the possible issues for discussion, as well as copies of the written public comments submitted in response to the November 21, 2001 proposed rule, are available at http://www.acq.osd.mil/dp/dsps/ot/pr.htm.

Dated: February 27, 2002.
L.M. Bynum,
Alternative OSD Federal Register Liaison Officer, Department of Defense.

[FR Doc. 02-5157 Filed 2-28-02; 11:52 am]

BILLING CODE 5001-08-P